COMMITTEE FOR PURCHASE FROM PEOPLE WHO ARE BLIND OR SEVERELY DISABLED

Procurement List; Proposed Additions and Deletions

AGENCY: Committee for Purchase From People Who Are Blind or Severely Disabled.

ACTION: Proposed additions to and deletions from Procurement List.

SUMMARY: The Committee has received proposal(s) to add to the Procurement List services to be furnished by nonprofit agencies employing persons who are blind or have other severe disabilities, and to delete commodities previously furnished by such agencies.

COMMENTS MUST BE RECEIVED ON OR BEFORE: November 27, 2000.

ADDRESSES: Committee for Purchase From People Who Are Blind or Severely Disabled, Jefferson Plaza 2, Suite 10800, 1421 Jefferson Davis Highway, Arlington, Virginia 22202-3259.

FOR FURTHER INFORMATION CONTACT: Louis R. Bartalot (703) 603-7740.

SUPPLEMENTARY INFORMATION: This notice is published pursuant to 41 U.S.C. 47(a)(2) and 41 CFR 51-2.3. Its purpose is to provide interested persons an opportunity to submit comments on the possible impact of the proposed actions.

Additions

If the Committee approves the proposed addition, all entities of the Federal Government (except as otherwise indicated) will be required to procure the services listed below from nonprofit agencies employing persons who are blind or have other severe disabilities.

I certify that the following action will not have a significant impact on a substantial number of small entities. The major factors considered for this certification were:

1. The action will not result in any additional reporting, recordkeeping or other compliance requirements for small entities other than the small organizations that will furnish the services to the Government.

2. The action will result in authorizing small entities to furnish the services to the Government.

3. There are no known regulatory alternatives which would accomplish the objectives of the Javits-Wagner-O'Day Act (41 U.S.C. 46—48c) in connection with the services proposed for addition to the Procurement List. Comments on this certification are invited. Commenters should identify the statement(s) underlying the certification on which they are providing additional information. The following services have been proposed for addition to Procurement List for production by the nonprofit agencies listed:

ADA Compliance Investigator, Department of Transportation, Maritime Administration Headquarters, 400 7th Street, SW, Washington, DC

NPA: Federal Dispute Resolution Center, Alexandria, Virginia

Administrative Services, General Services Administration, Public Building Service Property Development Division, 230 S. Dearborn Street, Chicago, Illinois

NPA: The Chicago Lighthouse for People who are Blind or Visually Impaired, Chicago, Illinois

Administrative Services, U.S. Department of Commerce, National Weather Service NOAA, National Reconditioning Center, Kansas City, Missouri

NPA: Alphapointe Association for the Blind, Kansas City, Missouri

General Records Management Support, Corpus Christi Army Depot, Corpus Christi, Texas

NPA: South Texas Lighthouse for the Blind, Corpus Christi, Texas

Medical Transcription, Bureau of Prisons, Federal Medical Center, Lexington, Kentucky

NPA: The Lighthouse of Houston, Houston, Texas

Temporary Administrative General Support Services, National Institutes of Health, Bethesda, Maryland

NPA: Columbia Lighthouse for the Blind, Washington, DC

Deletions

I certify that the following action will not have a significant impact on a substantial number of small entities. The major factors considered for this certification were:

1. The action will not result in any additional reporting, recordkeeping or other compliance requirements for small entities.

2. The action will result in authorizing small entities to furnish the services to the Government.

3. There are no known regulatory alternatives which would accomplish the objectives of the Javits-Wagner-O'Day Act (41 U.S.C. 46-48c) in connection with the services proposed for deletion from the Procurement List.

The following commodities have been proposed for deletion from the Procurement List:

Arming Wire Assembly

1325-01-155-9965

1325-01-264-5465

1325-00-947-6698

Arming Wire

1350-00-889-8165

Louis R. Bartalot,
Deputy Director (Operations).

[FR Doc. 00-27682 Filed 10-26-00; 8:45 am]

BILLING CODE 6353-01-P